DEPARTMENT OF HEALTH AND HUMAN SERVICES

Health Resources and Services Administration

Senior Executive Service Performance Review Board

AGENCY: Health Resources and Services Administration (HRSA), Department of Health and Human Services (HHS).

ACTION: Notice.

SUMMARY: HRSA, an operating division of HHS, is publishing a list of individuals who may be named to serve on the Senior Executive Service Performance Review Board that oversees the evaluation of performance appraisals for Senior Executive Service members for the Fiscal Years 2021 and 2022.

FOR FURTHER INFORMATION CONTACT: Georgia Lyons, HRSA Executive Resources, Office of Human Resources, 5600 Fishers Lane, Rm 12N06C, Rockville, Maryland 20857, or (301) 443-4618.

SUPPLEMENTARY INFORMATION: Title 5, U.S.C. Section 4314(c)(4) of the Civil Service Reform Act of 1978, Public Law 95-454, requires that the appointment of Performance Review Board Members be published in the Federal Register. The following individuals may be named to serve on the Senior Executive Service Performance Review Board:

Onyekachukwu Anaedozie

Anthony Archeval

Leslie Atkinson

Cynthia Baugh

Tonya Bowers

Adriane Burton

Tina Cheatham

Laura Cheever

Natasha Coulouris

Cheryl Dammons

Elizabeth DeVoss

Diana Espinosa

Catherine Ganey

Alexandra Garcia

Jordan Grossman

Heather Hauck

Danita Hunter

Laura Kavanagh

Martin Kramer

Torey Mack

James Macrae

Susan Monarez

Thomas Morris

Luis Padilla

Krista Pedley

Wendy Ponton

Ashley Rose

Tracey Trautman

Michael Warren

Diana Espinosa,
Acting Administrator.

[FR Doc. 2021-12366 Filed 6-11-21; 8:45 am]

BILLING CODE 4165-15-P